DEPARTMENT OF COMMERCE

International Trade Administration

[A-570-051]

Certain Hardwood Plywood Products From the People's Republic of China: Final Results of the Expedited Sunset Review of the Antidumping Duty Order

AGENCY: Enforcement and Compliance, International Trade Administration, Department of Commerce.

SUMMARY: As a result of this expedited sunset review, the U.S. Department of Commerce (Commerce) finds that revocation of the antidumping duty (AD) order on certain hardwood plywood products (hardwood plywood) from the People's Republic of China (China) would be likely to lead to continuation or recurrence of dumping at the levels indicated in the “Final Results of Review” section of this notice.

DATES: Applicable April 5, 2023.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On January 4, 2018, Commerce issued the AD order on hardwood plywood from China.¹ On December 1, 2022, Commerce published the Notice of Initiation of the first sunset review of the Order pursuant to section 751(c) of the Tariff Act of 1930, as amended (the Act).² On December 13, 2022, Commerce received a notice of intent to participate from the Coalition for Fair Trade in Hardwood Plywood,³ a coalition of domestic producers of hardwood plywood products and the petitioner in the underlying investigation, within the deadline specified in 19 CFR 351.218(d)(1)(i).⁴ The petitioner claimed domestic interested party status under section 771(9)(F) of the Act and 19 CFR 351.102(b)(29)(viii), as an association whose members are manufacturers of the domestic like product in the United States.⁵ On January 3, 2023, the petitioner filed its timely substantive response within the 30-day deadline specified in 19 CFR 351.218(d)(3)(i).⁶ Commerce received no substantive responses from any other interested parties with respect to the Order, nor was a hearing requested. Commerce received comments on the adequacy of responses only from the domestic interested party in this sunset review.⁷ On January 25, 2023, Commerce notified the U.S. International Trade Commission that it did not receive an adequate substantive response from respondent interested parties in this sunset review.⁸ As a result, pursuant to section 751(c)(3)(B) of the Act and 19 CFR 351.218(e)(1)(ii)(C)(2), Commerce is conducting an expedited (120-day) sunset review of the Order.

¹ See Certain Hardwood Plywood Products from the People's Republic of China: Amended Final Determination of Sales at Less than Fair Value, and Antidumping Duty Order, 83 FR 504 (January 4, 2018) (Order).

² See Initiation of Five-Year (Sunset) Reviews, 87 FR 73757 (December 1, 2022) (Notice of Initiation).

³ The Coalition for Fair Trade in Hardwood Plywood's members are Columbia Forest Products, Commonwealth Plywood Co., Ltd., Manthei Wood Products, States Industries LLC, and Timber Products Company.

⁴ See Petitioner's Letter, “Notice of Intent to Participate in Sunset Review,” dated December 13, 2022.

⁵ Id.

⁶ See Petitioner's Letter, “Substantive Response to Notice of Initiation,” dated January 3, 2023.

⁷ See Petitioner's Letter, “Comments on Adequacy of Response,” dated January 20, 2023.

⁸ See Commerce's Letter, “Sunset Reviews for December 2022,” dated January 25, 2023.

Scope of the Order

The merchandise subject to this Order is hardwood and decorative plywood, and certain veneered panels as described below. For purposes of this proceeding, hardwood and decorative plywood is defined as a generally flat, multilayered plywood or other veneered panel, consisting of two or more layers or plies of wood veneers and a core, with the face and/or back veneer made of non-coniferous wood (hardwood) or bamboo. The veneers, along with the core may be glued or otherwise bonded together. Hardwood and decorative plywood may include products that meet the American National Standard for Hardwood and Decorative Plywood, ANSI/HPVA HP-1-2016 (including any revisions to that standard). A full description of the scope of the Order is contained in the Issues and Decision Memorandum.⁹

⁹ See Memorandum, “Issues and Decisions Memorandum for the Expedited Sunset Review of the Antidumping Duty Order on Certain Hardwood Plywood Products from the People's Republic of China” dated concurrently with, and hereby adopted by, this notice (Issues and Decisions Memorandum).

Analysis of Comments Received

All issues raised in this review are addressed in the Issues and Decision Memorandum. The issues discussed in the Issues and Decision Memorandum include the likelihood of continuation or recurrence of dumping and the magnitude of the margins of dumping likely to prevail if the Order were revoked. A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1) and 752(c)(1) and (3) of the Act, Commerce determines that revocation of the Order would be likely to lead to continuation or recurrence of dumping, and that the margins of dumping likely to prevail would be weighted-average margins of up to 183.36 percent.

Administrative Protective Order

This notice serves as the only reminder to parties subject to an administrative protective order (APO) of their responsibility concerning the destruction of proprietary information disclosed under APO in accordance with 19 CFR 351.305(a). Timely notification of the destruction of APO materials or conversion to judicial protective orders is hereby requested. Failure to comply with the regulations and terms of an APO is a violation which is subject to sanction.

Notifications to Interested Parties

We are issuing and publishing these final results in accordance with sections 751(c), 752(c), and 777(i)(1) of the Act, and 19 CFR 351.218(e)(1)(ii)(C)(2) and 19 CFR 351.221(c)(5)(ii).

Dated: March 30, 2023.
Abdelali Elouaradia,
Deputy Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2023-07043 Filed 4-4-23; 8:45 am]

BILLING CODE 3510-DS-P